DEPARTMENT OF ENERGY

Federal Energy Regulatory Commission

[Docket No. RP04-264-001]

ANR Pipeline Company; Notice of Compliance Tariff Filing

June 18, 2004.

Take notice that on June 15, 2004, ANR Pipeline Company (ANR), tendered for filing its compliance tariff filing.

ANR's filing requests that the Commission approve a revision to the General Terms and Conditions of its FERC Gas Tariff. The revision is filed in compliance with the Commission's May 26, 2004, order requiring ANR to modify its language to include clarifications to the procedure for reserving capacity for expansion projects. ANR requests that the Commission grant such approval effective June 1, 2004.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1423 Filed 6-25-04; 8:45 am]

BILLING CODE 6717-01-P